SMALL BUSINESS ADMINISTRATION

[Disaster Declaration #17258 and #17259; Connecticut Disaster Number CT-00054]

Presidential Declaration Amendment of a Major Disaster for the State of Connecticut

AGENCY: Small Business Administration.

ACTION: Amendment 2.

SUMMARY: This is an amendment of the Presidential declaration of a major disaster for the State of Connecticut (FEMA-4629-DR), dated 10/30/2021.

Incident: Remnants of Hurricane Ida.

Incident Period: 09/01/2021 through 09/02/2021.

DATES: Issued on 12/15/2021.

Physical Loan Application Deadline Date: 01/28/2022.

Economic Injury (EIDL) Loan Application Deadline Date: 08/01/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Connecticut, dated 10/30/2021, is hereby amended to extend the deadline for filing applications for physical damages as a result of this disaster to 01/28/2022.

All other information in the original declaration remains unchanged.

(Catalog of Federal Domestic Assistance Number 59008)

Barbara Carson,
Acting Associate Administrator for Disaster Assistance.

[FR Doc. 2021-27553 Filed 12-20-21; 8:45 am]

BILLING CODE 8026-03-P